DEPARTMENT OF HEALTH AND HUMAN SERVICES

Centers for Medicare & Medicaid Services

42 CFR Parts 409, 414, 424, and 484

[CMS-1730-P]

RIN 0938-AU-06

Medicare and Medicaid Programs; CY 2021 Home Health Prospective Payment System Rate Update; Home Health Quality Reporting Requirements; and Home Infusion Therapy Services Requirements

Correction

In proposed rule document 2020-13792 beginning on page 39408 in the issue of Tuesday, June 30, 2020, make the following correction:

On page 39408, in the first column, in the DATES section, “August 31, 2020” should read “August 24, 2020”.

[FR Doc. C1-2020-13792 Filed 7-17-20; 8:45 am]

BILLING CODE 1301-00-D